CONSUMER PRODUCT SAFETY COMMISSION

[Docket No. CPSC-2012-0034]

Request for Information Regarding Crib Bumpers

AGENCY: U.S. Consumer Product Safety Commission.

ACTION: Notice.

SUMMARY: The Consumer Product Safety Commission (“CPSC” or “Commission”) is seeking information regarding the safety benefits of crib bumpers, whether safety hazards are associated with crib bumpers, existing safety standards that apply to crib bumpers, and potential performance requirements, testing, and other standards that may reduce the risk of injury, if any, associated with crib bumpers.

DATES: Submit comments by April 18, 2016.

ADDRESSES: You may submit comments, identified by Docket No. CPSC-2012-0034, by any of the following methods:

Electronic Submissions: Submit electronic comments to the Federal eRulemaking Portal at: http://www.regulations.gov. Follow the instructions for submitting comments. The Commission does not accept comments submitted by electronic mail (email), except through www.regulations.gov.

Written Submissions: Submit written comments by mail/hand delivery/courier to: Office of the Secretary, Consumer Product Safety Commission, Room 820, 4330 East-West Highway, Bethesda, MD 20814; telephone (301) 504-7923.

Instructions: All submissions must include the agency name and docket number for this notice. CPSC may post all comments, without change, to http://www.regulations.gov, including any personal identifiers, contact information, or other personal information. Do not submit confidential business information, trade secret information, or other sensitive or protected information that you do not want to be available to the public. If furnished at all, submit such information by mail/hand delivery/courier.

Docket: For access to the docket to read background documents or comments, go to: http://www.regulations.gov.

FOR FURTHER INFORMATION CONTACT: Timothy P. Smith, Project Manager, Directorate for Engineering Sciences, U.S. Consumer Product Safety Commission, 5 Research Place, Rockville, MD 20850; telephone: 301-987-2557; email: TSmith@cpsc.gov.

SUPPLEMENTARY INFORMATION:

I. Background

The Consumer Product Safety Commission (“CPSC” or “Commission”) has granted a petition to initiate rulemaking regarding crib bumpers.¹ To determine the need for and appropriate scope of such a rulemaking, the Commission is investigating whether crib bumpers pose a safety hazard to infants and, if so, what performance standards or requirements could mitigate that risk. As part of this effort, CPSC staff has reviewed incident data to identify what features or characteristics of crib bumpers create a safety hazard, if any; is evaluating existing safety standards that apply to crib bumpers and similar products; and is testing various types of crib bumpers. In this Request for Information (“RFI”), CPSC seeks input from interested parties to supplement the information, standards, and data currently available to the Commission. CPSC would find specific data regarding the safety risks and benefits associated with various types of crib bumpers and the empirical basis for, and effectiveness of, existing safety standards particularly helpful.

¹ On May 9, 2012, the Juvenile Products Manufacturers Association, Inc. (“JPMA”) filed a petition requesting CPSC initiate rulemaking under sections 7 and 9 of the Consumer Product Safety Act (“CPSA”; 15 U.S.C. 2051-2089) to create a performance standard for crib bumpers to distinguish “hazardous `soft' pillow-like” crib bumpers from “traditional” crib bumpers. See 77 FR 37836. On May 24, 2013, the Commission granted the petition, but adopted a broader framework than JPMA requested, directing staff to examine the safety benefits and risks associated with crib bumpers, evaluate existing standards, identify test methods and performance requirements that reduce any identified safety risks, and consider all regulatory options for addressing the risk of injury associated with crib bumpers.

II. Information Requested

To supplement the information currently available to CPSC, we request input relevant to the following questions:

• What test data or other information is available to identify the specific features or characteristics of a crib bumper that might contribute to a risk of suffocation?

• What objective, repeatable test methods, procedures or measures exist to assess the firmness of bedding, mattresses, and other possible sleep surfaces? To what extent, if any, can such tests, procedures or measures be used to assess whether these materials present a risk of suffocation by smothering?

• To what extent does the test device specified in Australian/New Zealand Standard AS/NZS 8811.1:2013, Methods of Testing Infant Products, Method 1: Sleep Surfaces—Test for Firmness,² accurately and reliably assess the potential risk of suffocation associated with a sleep surface?

² The standard is available from Standards Australia Limited, GPO Box 476, Sydney, NSW 2011 and Standards New Zealand, Private Bag 2439, Wellington 6140, www.standards.co.nz.

• To what extent would a test to accurately and reliably identify hazardous soft bedding or sleep surfaces be relevant to vertically-mounted surfaces, such as crib bumpers?

• What safety benefits do crib bumpers offer to consumers? What data are available to demonstrate such benefits?

• What, if any, evidence is there to indicate that “rebreathing” of carbon dioxide occurs with crib bumpers and presents a risk of suffocation?

• The current U.S. voluntary standard covering crib bumpers is ASTM F1917-12, Standard Consumer Safety Performance Specification for Infant Bedding and Related Accessories (“ASTM F1917-12”).³ Are there other standards, aside from state or regional bans, that include performance requirements for crib bumpers?

³ The standard is available from ASTM International at 100 Bar Harbor Drive, P.O. Box 0700, West Conshohocken, PA 19428, http://www.astm.org/cpsc.htm.

• ASTM F1917-12 includes a requirement that essentially limits the compressed thickness of crib bumpers to 2 inches. What evidence exists to support this requirement, and what, if any, association exists between this ASTM requirement and the risk of infant suffocation?

• What alternative or additional requirements beyond those specified in ASTM F1917-12 might address the risk of infant suffocation?

• To what extent could a mesh-like or other “breathable” material present a risk of suffocation to an infant if the infant's face were pressed into the material? What specific characteristics would make a bumper “breathable,” and to what extent, if any, would such a bumper address the risk of suffocation? What data or research support these conclusions?

• Are incident data or other objective safety information or research available that describe potential hazards associated with mesh-like bumpers or liners? Are similar data or information available on so-called “vertical bumpers,” which essentially are a series of small bumpers that individually cover each crib slat, and other bumper alternatives?

Dated: February 10, 2016.
Todd A. Stevenson,
Secretary, Consumer Product Safety Commission.

[FR Doc. 2016-03013 Filed 2-12-16; 8:45 am]

BILLING CODE 6355-01-P